DEPARTMENT OF THE TREASURY

Internal Revenue Service

Open Meeting of the Area 6 Taxpayer Advocacy Panel (Including the States of Alaska, Arizona, Colorado, Hawaii, Idaho, Montana, Nevada, New Mexico, Oregon, Utah, Washington, and Wyoming)

AGENCY: Internal Revenue Service (IRS), Treasury.

ACTION: Notice.

SUMMARY: An open meeting of the Area 6 Committee of the Taxpayer Advocacy Panel will be conducted in Las Vegas, Nevada. The Taxpayer Advocacy Panel (TAP) is soliciting public comments, ideas, and suggestions on improving customer service at the Internal Revenue Service. The TAP will use citizen input to make recommendations to the Internal Revenue Service.

DATES: The meeting will be held Thursday, September 18, 2003, and Friday, September 19, 2003.

FOR FURTHER INFORMATION CONTACT: Anne Gruber at 1-888-912-1227 or 206-220-6096.

SUPPLEMENTARY INFORMATION: Notice is hereby given pursuant to section 10(a)(2) of the Federal Advisory Committee Act, 5 U.S.C. App. (1988) that an open meeting of the Area 6 Committee of the Taxpayer Advocacy Panel will be held Thursday, September 18, 2003, from 8 a.m. to 4 p.m. and Friday, September 19, 2003, from 8 a.m. to 12 p.m. Thursday's meeting will be held in conjunction with IRS's Tax Forum at the Rio Hotel in Seminar Room 4. Friday's meeting will be held at the Coyote Café at the MGM Grand Hotel. The public is invited to make oral comments on Thursday, September 18, from 2 p.m. to 4 p.m. Individual comments will be limited to 5 minutes. If you would like to have the TAP consider an oral or written statement, please call 1-888-912-1227 or 206-220-6096, or write Anne Gruber, TAP Office, 915 2nd Ave, M/S W406, Seattle, WA 98174. Due to limited time and space, notification of intent to participate in the public forum part of the meeting must be made with Anne Gruber. Ms. Gruber can be reached at 1-888-912-1227 or 206-220-6096.

The agenda will include the following: Various IRS issues.

Dated: August 20, 2003.
Deryle J. Temple,
Director, Taxpayer Advocacy Panel.

[FR Doc. 03-21830 Filed 8-25-03; 8:45 am]

BILLING CODE 4830-01-P